ENVIRONMENTAL PROTECTION AGENCY

[FRL 7069-4]

Science Advisory Board; Notification of Public Advisory Committee Meetings

Pursuant to the Federal Advisory Committee Act, Public Law 92-463, notice is hereby given that two committees of the US EPA Science Advisory Board (SAB) will meet on the dates and times noted below. All times noted are Eastern Standard Time. All meetings are open to the public, however, seating is limited and available on a first come basis. Important Notice: Documents that are the subject of SAB reviews are normally available from the originating EPA office and are not available from the SAB Office—information concerning availability of documents from the relevant Program Office is included below.

1. Research Strategies Advisory Committee (RSAC) October 16-17, 2001

The Research Strategies Advisory Committee (RSAC) of the US EPA Science Advisory Board (SAB), will meet on Tuesday and Wednesday, October 16-17, 2001 at EPA headquarters in room 6013 of the Ariel Rios Building, 1200 Pennsylvania Avenue, NW, Washington, DC 20005. The meeting will begin by 8:30 a.m. and adjourn no later than 5 p.m. Eastern Standard time on both days.

The RSAC will conduct a review of two of EPA's Office of Research and Development's multiyear plans. The Committee is expected to review the Pollution Prevention and Water Quality Multiyear Plans, however, the specific multi-year plans to be reviewed are subject to change. EPA uses several means to develop and coordinate it's research activities and has recently developed Multiyear Plans for certain key research activities to describe the research ORD intends to accomplish to meet the long-term goals and objectives as set forth in the Agency's Strategic Plan. The Committee will also meet with Agency officials to discuss the Agency's FY 2002 budget and to begin to plan for its review of the President's FY 2003 S&T budget request for EPA .

Charge to the Committee—The charge questions for the review of the Multiyear Plans are: (1) Does the multi-year plan convey the Office of Research and Development's strategic research plans for the subject area in an understandable fashion and at an appropriate level of detail?; (2) Do the long term goals and underlying science questions identified in the plan address the most important areas of scientific uncertainty in the subject area?; (3) Does the proposed scope of work proposed by the Office of Research and Development complement research by others?; (4) Would accomplishing the annual performance goals allow the Office of Research and Development to both achieve the long term goals and answer the science questions identified in the plan?; (5) Would accomplishing the annual performance measures clearly demonstrate that the associated annual performance goal was attained?; and (6) Does the plan clearly describe the outcomes that the Office of Research and Development will achieve through the proposed research

For Further Information—Members of the public desiring additional information about the meeting should contact Dr. Jack Fowle, Designated Federal Officer, Research Strategies Advisory Committee (RSAC), USEPA Science Advisory Board (1400A), Room 6450, 1200 Pennsylvania Avenue, NW, Washington, DC 20460; telephone/voice mail at (202) 564-4547; fax at (202) 501-0582; or via e-mail at fowle.jack@epa.gov. For a copy of the draft meeting agenda, please contact Ms. Wanda Fields, Management Assistant at (202) 564-4539 or by FAX at (202) 501-0582 or via e-mail at fields.wanda@epa.gov.

Materials that are the subject of this review are available from Mr. Paul R. Zielinski, Chief, Planning Staff, Office of Science Policy of the Office of Research and Development (202) 564-6772 or by e-mail at zielinski.paul@epa.gov.

Providing Oral or Written Comments—Members of the public who wish to make a brief oral presentation to the Committee must contact Dr. Fowle in writing (by letter or by fax—see previously stated information) no later than 12 noon Eastern Time, Thursday, October 11, 2001 in order to be included on the Agenda. The request should identify the name of the individual who will make the presentation, the organization (if any) they will represent, any requirements for audio visual equipment (e.g., overhead projector, 35mm projector, chalkboard, etc), and at least 35 copies of an outline of the issues to be addressed or the presentation itself. See below for more information on providing written or oral comments.

2. Environmental Engineering Committee—October 24-26, 2001

The Surface Impoundments Study Subcommittee (SISS) of the Environmental Engineering Committee of the EPA Science Advisory Board will meet on Wednesday through Friday, October 24-26, 2001 at EPA headquarters in Room 6013 of the Ariel Rios Building, 1200 Pennsylvania Avenue, NW., Washington, DC 20005. The meeting will begin by 9 a.m. and adjourn no later than 5 p.m. Eastern Standard time on all days. This meeting was originally scheduled for September 17-19, 2001 but was cancelled. For further details, see 66 FR 30917-30920, June 8, 2001.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at these meetings, including wheelchair access to the conference room, should contact the relevant DFO at least five business days prior to the meeting so that appropriate arrangements can be made.

Dated: September 21, 2001.
Donald G. Barnes,
Staff Director, EPA Science Advisory Board.

[FR Doc. 01-24380 Filed 9-27-01; 8:45 am]

BILLING CODE 6560-50-P